DEPARTMENT OF THE INTERIOR

Bureau of Land Management

[LLIDI00000.L54400000.EU0000. LVCLD09D0630 (IDI-35073)]

Public Land Order No. 7816; Partial Revocation of the Executive Order dated April 17, 1926; Idaho

AGENCY: Bureau of Land Management, Interior.

ACTION: Public Land Order.

SUMMARY: This order partially revokes a withdrawal created by an Executive Order insofar as it affects 1,037.66 acres of public lands withdrawn from settlement, sale, location, or entry under the public land laws, including location for non-metaliferous minerals under the United States mining laws, for protection of springs and waterholes and designated as Public Water Reserve No. 107. This order also opens the lands to conveyance out of Federal ownership.

DATES: Effective Date: June 28, 2013.

FOR FURTHER INFORMATION CONTACT: Laura Underhill, BLM, Idaho State Office, 208-373-3866 or Jan Parmenter, BLM, Idaho Falls District Office, 208-524-7562 or John Sullivan, BLM Boise District Office, 208-384-3338. Persons who use a telecommunications device for the deaf (TDD) may call the Federal Information Relay Service (FIRS) at 1-800-877-8339 to reach any of the contacts stated above. The FIRS is available 24 hours a day, 7 days a week, to leave a message or question with either of the above individuals. You will receive a reply during normal business hours.

SUPPLEMENTARY INFORMATION: The Bureau of Land Management has determined that portions of the withdrawal created by an Executive Order dated April 17, 1926, which established Public Water Reserve No. 107, encumber several parcels of land that are isolated from larger tracks of Federal land making management difficult, or are part of an Idaho State land exchange. The partial revocation of the withdrawal is needed to facilitate the land conveyances out of Federal ownership.

Order

By virtue of the authority vested in the Secretary of the Interior by Section 204 of the Federal Land Policy and Management Act of 1976, (43 U.S.C. 1714), it is ordered as follows:

1. The withdrawal created by the Executive Order dated April 17, 1926, which established Public Water Reserve No. 107, is hereby revoked insofar as it affects the following described lands:

Boise Meridian

T. 6 S., R. 3 W.,

Sec. 27, NE¼SE¼.

T. 7 S., R. 3 W.,

Sec. 1, SE¼SW¼;

Sec. 2, lot 4;

Sec. 10, SW¼SW¼ and NW¼SE¼;

Sec. 11, NW¼NE¼ and NE¼NW¼.

T. 9 S., R. 2 W.,

Sec. 20, SE¼NE¼, NE¼SW¼, and SE¼SE¼;

Sec. 21, NE¼NW¼;

Sec. 28, SW¼NW¼;

Sec. 34, NW¼SE¼.

T. 9 S., R. 3 W.,

Sec. 11, NE¼SE¼, NW¼SE¼, and SE¼SE¼.

T. 9 S., R. 4 W.,

Sec. 6, lot 7 and 12, and SE¼SW¼, NE¼SE¼, NW¼SE¼, and SW¼SE¼;

Sec. 7, lot 1 and NW¼NE¼.

T. 9 S., R. 44 E.,

Sec. 7, SE¼NE¼;

Sec. 17, SW¼NE¼.

The areas described aggregate 1,037.66 acres in Caribou and Owyhee Counties.

2. At 9 a.m., on July 29, 2013, the lands described in Paragraph 1 will be open to conveyance pursuant to the land disposal and conveyance authorities of the Federal Land Policy and Management Act of 1976, as amended, (43 U.S.C. 1713), subject to valid existing rights, the provisions of existing withdrawals, other segregations of record, and the requirements of applicable law.

Dated: May 30, 2013.
Rhea S. Suh,
Assistant Secretary—Policy, Management and Budget.

[FR Doc. 2013-15511 Filed 6-27-13; 8:45 am]

BILLING CODE 4310-GG-P